DEPARTMENT OF COMMERCE

National Oceanic and Atmospheric Administration

50 CFR Part 648

[Docket No. 000407096-0096-01; I.D. 051203A]

Fisheries of the Northeastern United States; Northeast (NE) Multispecies Fishery; Commercial Haddock Harvest

AGENCY: National Marine Fisheries Service (NMFS), National Oceanic and Atmospheric Administration (NOAA), Commerce.

ACTION: Removal of haddock daily trip limit.

SUMMARY: NMFS announces that the Administrator, Northeast Region, NMFS (Regional Administrator) is suspending the haddock daily trip limit for the groundfish fishery for the remainder of the 2003 fishing year. The Regional Administrator has projected that less than 75 percent of the haddock target total allowable catch (TAC) will be harvested for the 2003 fishing year under the restrictive daily trip limits. This action is intended to allow fishermen to catch the haddock TAC, without exceeding it.

DATES: Effective May 13, 2003 through April 30, 2004.

FOR FURTHER INFORMATION CONTACT: Susan Chinn, Fishery Management Specialist, 978-281-9218.

SUPPLEMENTARY INFORMATION: Framework Adjustment 33 to the NE Multispecies Fishery Management Plan, which became effective May 1, 2000, implemented the current haddock trip limit regulations (65 FR 21658, April 24, 2000). To ensure that haddock landings do not exceed the appropriate target TAC, Framework 33 established a haddock trip limit of 3,000 lb (1,360.8 kg) per NE multispecies day-at-sea (DAS) fished and a maximum trip limit of 30,000 lb (13,608 kg) of haddock for the period May 1 through September 30; and 5,000 lb (2,268 kg) of haddock per DAS and 50,000 lb (22,680 kg) per trip from October 1 through April 30. Framework 33 also provided a mechanism to adjust the haddock trip limit based upon the percentage of TAC that is projected to be harvested. Section 648.86(a)(1)(iii)(B) specifies that, if the Regional Administrator projects that less than 75 percent of the haddock target TAC will be harvested in the fishing year, the trip limit may be adjusted. Further, this section stipulates that NMFS will publish notification in the Federal Register informing the public of the date of any changes to the trip limit.

Based on the March, 2002, “Final Report of the Working Group on Re-Evaluation of Biological Reference Points for New England Groundfish,” (Report) the appropriate Georges Bank haddock target TAC for the 2002 fishing year was estimated to be 17,337 mt. A subsequent assessment of Georges Bank haddock by the Groundfish Assessment Review Meeting (GARM, October 2002) calculated a stock size similar to that noted in the March, 2002, Report. Therefore, the target TAC for the 2003 fishing year remains at 17,337 mt. Based on recent historical fishing practices, the Regional Administrator has projected that less than 75 percent of the haddock target TAC for the 2003 fishing year will be harvested by April 30, 2004, and has therefore determined that suspending the 3,000-lb (1,360.8-kg) and 5,000-lb (2,268-kg) daily haddock trip limits through April 30, 2004, while retaining the associated 30,000-lb (13,608-kg) and 50,000-lb (22,680-kg) per trip possession limits for May 1 through September 30, 2003, and October 1 through April 30, 2004, respectively, will provide the industry with the opportunity to harvest the target TAC for the 2003 fishing year. In order to prevent the TAC from being exceeded, the Regional Administrator may adjust this possession limit again through publication of a notification in the Federal Register, pursuant to § 648.86(a)(1)(iii).

Classification

This action is required by 50 CFR part 648 and is exempt from review under Executive Order 12866.

Authority: 16 U.S.C. 1801 et seq.

Dated: May 12, 2003.
Bruce C. Morehead,
Acting Director, Office of Sustainable Fisheries, National Marine Fisheries Service.

[FR Doc. 03-12299 Filed 5-13-03; 2:38 pm]

BILLING CODE 3510-22-S